COMMISSION ON CIVIL RIGHTS

Sunshine Act Meeting Notice

AGENCY: United States Commission on Civil Rights.

ACTION: Notice of Commission Business Meeting.

DATES: Friday, July 14, 2017, at 10:00 a.m. EST.

ADDRESSES: National Place Building, 1331 Pennsylvania Ave. NW., 11th Floor, Suite 1150, Washington, DC 20245 (Entrance on F Street NW).

FOR FURTHER INFORMATION CONTACT: Brian Walch, phone: (202) 376-8371; TTY: (202) 376-8116; publicaffairs@usccr.gov.

SUPPLEMENTARY INFORMATION: This business meeting is open to the public. There will also be a call-in line for individuals who desire to listen to the presentations: (888) 504-7958; Conference ID 790-7062. Hearing-impaired persons who will attend the briefing and require the services of a sign language interpreter should contact Pamela Dunston at (202) 376-8105 or at signlanguage@usccr.gov at least three business days before the scheduled date of the meeting.

Meeting Agenda

I. Approval of Agenda

II. Business Meeting

A. Discussion and Vote on 2018 Business Meeting Dates

B. State Advisory Committees

• Presentation by Ms. Diane Citrino, Chair of the Ohio Advisory Committee, on its report on Human Trafficking in Ohio

• Presentation by Mr. Wendell Blaylock, Chair of the Nevada Advisory Committee, on its Advisory Memorandum on Municipal Fines and Fees in Nevada

C. Management and Operations

• Staff Director's Report

D. Presentation on the Americans with Disabilities Act by Rebecca Cokley, Executive Director, the National Council on Disability

III. Adjourn Meeting

Dated: July 5, 2017.
Brian Walch,
Director, Communications and Public Engagement.

[FR Doc. 2017-14386 Filed 7-5-17; 4:15 pm]

BILLING CODE 6335-01-P